INTERNATIONAL TRADE COMMISSION

[USITC SE-23-029]

Sunshine Act Meetings

Agency Holding the Meeting: United States International Trade Commission.

TIME AND DATE: June 14, 2023 at 2:00 p.m.

PLACE: Room 101, 500 E Street SW

Washington, DC 20436

Telephone: (202) 205-2000.

STATUS: Open to the public.

MATTERS TO BE CONSIDERED:

1. Agendas for future meetings: none.

2. Minutes.

3. Ratification List.

4. Commission vote on Inv. Nos. 701-TA-682 and 731-TA-1592-1593 (Final)(Freight Rail Couplers and Parts Thereof from China and Mexico). The Commission currently is scheduled to complete and file its determination and views on July 3, 2023.

5. Outstanding action jackets: none.

CONTACT PERSON FOR MORE INFORMATION: Sharon Bellamy, Acting Supervisory Hearings and Information Officer, 202-205-2000.

The Commission is holding the meeting under the Government in the Sunshine Act, 5 U.S.C. 552(b). In accordance with Commission policy, subject matter listed above, not disposed of at the scheduled meeting, may be carried over to the agenda of the following meeting.

By order of the Commission.
Issued: June 7, 2023.
Sharon Bellamy,
Acting Supervisory Hearings and Information Officer.

[FR Doc. 2023-12502 Filed 6-7-23; 4:15 pm]

BILLING CODE 7020-02-P